DEPARTMENT OF JUSTICE

Antitrust Division

Notice Pursuant to the National Cooperative Research and Production Act of 1993—JEDEC Solid State Technology Association

Notice is hereby given that, on September 15, 2004, pursuant to section 6(a) of the National Cooperative Research and Production Act of 1993, 15 U.S.C. 4301 et seq. (“Act”), JEDEC Solid State Technology Association (“JEDEC”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: JEDEC Solid State Technology Association, Arlington, VA. The nature and scope of JEDEC's standards development activities are: To promote, develop, and coordinate open voluntary consensus standardization of terms, definitions, product characterization and operation, test methods, manufacturing support functions, product quality and reliability, mechanical outlines, solid state memories, and wireless interface networking systems. Technical and informational exchanges may take place directly between committees and their correspondents. It is a primary function of each committee to propose JEDEC standards and to formulate policies, procedures, formats, and other documents.

Dorothy B. Fountain,
Deputy Director of Operations, Antitrust Division.

[FR Doc. 04-23775 Filed 10-22-04; 8:45 am]

BILLING CODE 4410-11-M